DEPARTMENT OF THE INTERIOR

Bureau of Indian Affairs

Advisory Board for Exceptional Children

AGENCY: Bureau of Indian Affairs, Interior.

ACTION: Notice of meeting.

SUMMARY: In accordance with the Federal Advisory Committee Act, the Bureau of Indian Education (BIE) is announcing the Advisory Board for Exceptional Children will hold its next meeting in Albuquerque, New Mexico. The purpose of the meeting is to meet the mandates of the Individuals with Disabilities Education Act of 2004 (IDEA) on Indian children with disabilities.

DATES: The Advisory Board will meet on Monday, January 11, 2010, from 8:30 a.m. to 4:30 p.m. and Tuesday, January 12, 2010, from 8:30 a.m. to 4:30 p.m. Mountain Standard Time.

ADDRESSES: The meetings will be held at the Bureau of Indian Affairs, Building 2, 1011 Indian School Road North West, Room 271, Albuquerque, New Mexico 87104; telephone (505) 563-5274.

FOR FURTHER INFORMATION CONTACT: Sue Bement, Designated Federal Official, Bureau of Indian Education, Albuquerque Service Center, Division of Performance and Accountability, 1011 Indian School Road NW., P.O. Box 1088, Suite 332, Albuquerque, New Mexico 87103; telephone (505) 563-5274.

SUPPLEMENTARY INFORMATION: The Advisory Board was established to advise the Secretary of the Interior, through the Assistant Secretary—Indian Affairs, on the needs of Indian children with disabilities, as mandated by the Individuals with Disabilities Act of 2004 (Pub. L. 108-446). The meetings are open to the public.

The following items will be on the agenda:

• Setting Advisory Board Priorities for 2010-2011

• Public Comment (via conference call, January 11, 2010, meeting only*)

• Report from Gloria Yepa, Supervisory Education Specialist, Bureau of Indian Education, Division of Performance and Accountability

• Appointment of Advisory Board Vice Chair

• Updates on Coordination of Services

• Panel discussion with Special Education faculty, General Education faculty and Related Service providers from Sky City Community School, Acoma, New Mexico

• Discussion of new Charter

* During the January 11, 2010, meeting, time has been set aside for public comment via conference call from 1-1:30 p.m. Mountain Standard Time. The call-in information is: Conference Number 1-888-387-8686, Passcode 4274201.

Dated: December 10, 2009.
George T. Skibine,
Acting Principal Deputy, Assistant Secretary—Indian Affairs.

[FR Doc. E9-30321 Filed 12-18-09; 8:45 am]

BILLING CODE 4310-6W-P